DEPARTMENT OF HOMELAND SECURITY

Coast Guard

46 CFR Parts 107, 108, and 109

[Docket No. USCG-2011-0992]

RIN 1625-AB78

Revision of Crane Regulation Standards for Mobile Offshore Drilling Units (MODUs), Offshore Supply Vessels (OSVs), and Floating Outer Continental Shelf (OCS) Facilities

AGENCY: Coast Guard, DHS.

ACTION: Notice of proposed rulemaking.

SUMMARY: The Coast Guard proposes to revise regulations related to the design, certification, inspection, and testing of cranes. These regulations apply to cranes installed on Mobile Offshore Drilling Units (MODUs), Offshore Supply Vessels (OSVs), and floating Outer Continental Shelf (OCS) facilities. This revision would update industry standards incorporated by reference with more recent versions, which are used by industry and incorporated in Bureau of Safety and Environmental Enforcement regulations. Additionally, the Coast Guard proposes to revise regulations regarding certification, inspection, and testing of cranes by allowing use of additional organizations to act in lieu of Coast Guard marine inspectors.

DATES: Comments and related material must either be submitted to our online docket via http://www.regulations.gov on or before August 12, 2013 or reach the Docket Management Facility by that date. Comments sent to the Office of Management and Budget (OMB) on collection of information must reach OMB on or before August 12, 2013.

ADDRESSES: You may submit comments identified by docket number USCG-2011-0992 using any one of the following methods:

(1) Federal eRulemaking Portal:http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Collection of Information Comments: If you have comments on the collection of information discussed in section VI.D. of this notice of proposed rulemaking (NPRM), you must also send comments to the Office of Information and Regulatory Affairs (OIRA), Office of Management and Budget. To ensure that your comments to OIRA are received on time, the preferred methods are by email to oira_submission@omb.eop.gov (include the docket number and “Attention: Desk Officer for Coast Guard, DHS” in the subject line of the email) or fax at 202-395-6566. An alternate, though slower, method is by U.S. mail to the Office of Information and Regulatory Affairs, Office of Management and Budget, 725 17th Street NW., Washington, DC 20503, ATTN: Desk Officer, U.S. Coast Guard.

Viewing incorporation by reference material: You may inspect the material proposed for incorporation by reference at room 1210, U.S. Coast Guard Headquarters, 2100 Second Street SW., Washington, DC 20593-0001 between 9 a.m. and 4 p.m., Monday through Friday, except Federal holidays. The telephone number is 202-372-1437. Copies of the material are available as indicated in the “Incorporation by Reference” section of this preamble.

FOR FURTHER INFORMATION CONTACT: If you have questions on this proposed rule, call or email Mr. Ken Smith, CG-OES-2, U.S. Coast Guard; telephone 202-372-1413 or email Ken.A.Smith@uscg.mil. If you have questions on viewing or submitting material to the docket, call Barbara Hairston, Program Manager, Docket Operations, telephone 202-366-9826.

SUPPLEMENTARY INFORMATION:

Table of Contents for Preamble

I. Public Participation and Request for Comments

A. Submitting Comments

B. Viewing Comments and Documents

C. Privacy Act

D. Public Meeting

II. Abbreviations

III. Background

IV. Discussion of Proposed Rule

V. Incorporation by Reference

VI. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted without change to http://www.regulations.gov and will include any personal information you have provided.

A. Submitting Comments

If you submit a comment, please include the docket number for this rulemaking (USCG-2011-0992), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comments online, go to http://www.regulations.gov, click on the “submit a comment” box, which will then become highlighted in blue. In the “Document Type” drop down menu select “Proposed Rule” and insert “USCG-2011-0992” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this proposed rule based on your comments.

B. Viewing Comments and Documents

To view comments, as well as documents mentioned in this preamble as being available in the docket, go to http://www.regulations.gov, click on the “read comments” box, which will then become highlighted in blue. In the “Keyword” box insert “USCG-2011-0992” and click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We do not plan to hold a public meeting at this time. But you may submit a request for one to the docket using one of the methods specified under ADDRESSES. In your request, explain why you believe a public meeting would be beneficial. If we determine that one would aid this rulemaking, we will hold one at a time and place announced by a later notice in the Federal Register.

II. Abbreviations

ABS American Bureau of Shipping

ANSI American National Standards Institute

API American Petroleum Institute

ICGB International Cargo Gear Bureau

IMO International Maritime Organization

MODU Mobile offshore drilling unit

NFPA National Fire Protection Association

NPRM Notice of proposed rulemaking

OCS Outer continental shelf

OIRA Office of Information and Regulatory Affairs

OMB Office of Management and Budget

OSV Offshore supply vessel

SBA Small Business Administration

§ Section symbol

UL Underwriters Laboratories

U.S.C. United States Code

III. Background

The legal basis for the proposed rule is 43 U.S.C. 1333; 46 U.S.C. 3103, 3306, 3307, 3316; and Department of Homeland Security Delegation No. 0170.1, which collectively authorize the Coast Guard to establish standards for the design, installation, operation, and inspection of vessels and to regulate floating Outer Continental Shelf (OCS) facilities as they relate to the safety of life.

This proposed rule is necessary to enhance the safety of offshore cranes by ensuring that industry uses the best available and safest technologies for the operation, maintenance, design, and construction of cranes used on Mobile Offshore Drilling Units (MODUs), Offshore Supply Vessels (OSVs), and floating OCS facilities. The proposed rule would also align Coast Guard regulations with Bureau of Safety and Environmental Enforcement requirements for cranes used on offshore fixed platforms. Additionally, the proposed rule would provide owners and operators of vessels the option and flexibility of using additional organizations and associations for the certification of cranes.

The Coast Guard currently regulates cranes by requiring owners and operators of MODUs, OSVs, and floating OCS facilities to comply with Coast Guard regulations in 46 CFR subchapter I-A, Mobile Offshore Drilling Units parts 107, 108, and 109.

These regulations apply to cranes installed on MODUs, OSVs, and floating OCS facilities because the crane regulations for OSVs (46 CFR 126.130) and floating OCS facilities (33 CFR 143.120) refer back to the requirements for cranes found in 46 CFR parts 107, 108, and 109. The existing regulations make reference to American Petroleum Institute (API) standards that are outdated and generally are no longer used by industry. The current regulations specifically reference the First Edition (October 1972) of the API's “Recommended Practice for Operation and Maintenance of Offshore Cranes” (API RP 2D), and the Second Edition (February 1972) of API's “Specification for Offshore Pedestal Mounted Cranes” (API Spec. 2C). These standards outline the specifications for designing pedestal mounted cranes (API Spec. 2C) and the recommended practices for their operation and maintenance (API RP 2D) once the cranes are installed on MODUs, OSVs, and floating OCS facilities.

This proposed rule would update our existing regulations by adopting the most recent editions of API Spec. 2C and RP 2D standards. By updating these API standards in our regulations, we would ensure that industry uses the best available and safest technologies for the operation, maintenance, design, and construction of cranes used on MODUs, OSVs, and floating OCS facilities.

Compliance with the most recent edition of API RP 2D, currently the Sixth Edition (May 2007), would be effective for cranes installed on all existing and newly built MODUs, OSVs, and floating OCS facilities after the effective date of the final rule. API RP 2D can be applied to existing MODUs, OSVs, and floating OCS facilities because it outlines recommendations for operations and maintenance, as opposed to specifying requirements for design and construction.

Compliance with the most recent edition of API Spec. 2C, “Specification for Offshore Pedestal Mounted Cranes,” currently the Seventh Edition (March 2012), would be effective for new cranes installed on MODUs, OSVs, and floating OCS facilities after the effective date of the final rule. Offshore cranes installed on or before the effective date of the final rule may be designed to the API Spec. 2C edition and regulations that were current at the time of construction.

The most recent edition of API RP 2D, currently the Sixth Edition (May 2007), provides for improved safety conditions by enhancing personnel qualifications and improving practices associated with operations and maintenance. In addition to expanding on the content of information existing in API RP 2D, First Edition (October 1972), the sixth edition improves on the first edition by adding new sections that address rigger qualifications and personnel operating practices, signaling, load testing, and pull tests. The inspection, testing, and maintenance requirements have been expanded and sorted into categories that are based on crane usage (i.e., infrequent, moderate, and heavy). Inspection categories have also been added that detail the inspection requirements to be conducted at periodic intervals including initial certification, pre-use, monthly, quarterly, and annually. Also, new sections have been added that address rerating of cranes, crane operations, wire rope testing, pendant lines, and slings. Finally, the sixth edition includes eight appendixes, which expand on details contained in the body of the standard and provide clearer understanding of the subject matter. Additional information on the differences between the two editions can be reviewed by examining the document titled, “API RP 2D Table of Comparison 1st Ed to 6th Ed”, which is provided as supplemental information in the public docket.

The most recent edition of API Spec. 2C, currently the Seventh Edition (March 2012), improves upon API Spec. 2C, Second Edition (February 1972) by more accurately defining the scope of cranes covered and not covered and expanding the list of components identified to be critical, including components of rigging gear. New recordkeeping requirements are imposed on manufacturers that require them to keep test and inspection records for 20 years and to provide certain pieces of documentation to the purchaser, including load and information charts, crane foundation design forces and moments, a listing of all critical components, an operations, parts, and maintenance manual, and a failure mode assessment for gross unintended overloads, if requested by the purchaser. The revised specification expands the method for establishing crane rated loads and establishes methods for determining the rated loads for cranes handling personnel. New requirements for calculating in-service loads based on specific crane usage (e.g., onboard or offboard lifts) have been added, as were calculations to determine dynamic forces and forces in the horizontal and vertical directions. Requirements have been added to address environmental loads (i.e., wind, ice, and snow) and seismic design. The revised specification also outlines new requirements for strength factors associated with wire rope for standing, guy ropes, and personnel hoist systems. Finally, U-bolts, grip clips, eye splices, wedge sockets, and wire rope end terminations that were not included in the second edition have been addressed. Additional information on the differences between these editions can be reviewed by examining the document titled, “Change Matrix for API Spec. 2C Comparison of Editions 2 and 6 and Change Matrix for API Spec. 2C Comparison of Editions 6 and 7,” provided as supplemental information in the public docket for this proposed rule.

API Spec. 2C and API RP 2D do not have a threshold limiting the size of cranes to which they apply. However, the Coast Guard believes that small cranes and other lifting appliances are satisfactory for operation, as long as they are maintained and operated in accordance with the manufacturer's recommendations. The Coast Guard does not intend in this rulemaking to capture small cranes or other lifting appliances that have a lifting capacity below 5 tons (10,000 lbs) that are used only for special purposes, such as lifting fuel transfer hoses or transferring supplies or provisions. The Coast Guard has incorporated provisions in the proposed rule to address this matter, and seeks comments concerning the lifting capacity threshold and exemption of smaller cranes from the requirements of API Spec. 2C and API RP 2D.

Currently, the regulations provide for extensive plan review and inspections and tests by Coast Guard personnel, the American Bureau of Shipping (ABS), or the International Cargo Gear Bureau (ICGB). The ABS is a classification society that can also act as a crane certifying authority. Classification societies perform many functions and conduct or witness various tests in the survey of a vessel. The ICGB is a membership corporation which primarily provides registration, inspection, certification, and documentation services for materials handling appliances and devices that are afloat, shore-based, and offshore. The ICGB is limited in that it is primarily concerned with cranes and cargo handling machinery and gear, whereas an approved classification society can perform those functions, tests, and inspections that lead to the complete certification of a vessel.

The current regulations only allow ABS and ICGB to conduct crane inspections and certifications on behalf of the Coast Guard.

Until the passage of the 1996 Coast Guard Authorization Act (Pub. L. 104-324, 110 Stat. 3901), the Coast Guard could only delegate marine safety functions related to vessel plan review and inspection to ABS. Section 607 of Pub. L. 104-324 amended 46 U.S.C. 3316 to allow delegation of these functions to a classification society based in a foreign country. This authority provides that additional classification societies may be authorized to review and approve plans and to conduct vessel inspections and examinations on behalf of the Coast Guard. This also means that other classification societies may be utilized in a manner similar to the ABS. The Coast Guard proposes to allow organizations, other than just ABS and ICGB, to perform these tasks. The proposed rule would expand the list of organizations, beyond ABS and ICGB, that can inspect and certify cranes.

The Coast Guard expects that, due to the additional classification societies that may review and approve crane plans and conduct crane inspections and examinations, vessel owners and operators would have reduced crane operational down time, greater flexibility in scheduling crane inspections, and greater flexibility in meeting required standards. But before any classification society can be delegated authority under this amendment to act on behalf of the Coast Guard for any purpose, the statute requires that the classification society be recognized by the Coast Guard.

The option to use other organizations for crane approvals and inspections has proven successful on other Coast Guard inspected vessels.¹ These organizations have personnel who are specifically trained and qualified to witness tests of cranes and conduct crane inspections, and these inspections can often be scheduled more conveniently than inspections by the Coast Guard. It is common marine industry practice to rely on other organizations for surveys and certification of cranes. In fact, actual crane inspections by Coast Guard marine inspectors have become rare.

¹ See 46 CFR 91.25-25 and 31.10-16 for acceptance of other organizations or associations for certification of cranes and cargo handling machinery and gear on cargo and miscellaneous vessels and tank vessels, respectively.

The proposed rule would expand the current list of crane-certifying authorities in the regulations by allowing all classification societies recognized under 46 CFR part 8 to inspect, test, and certify cranes. Therefore, recognized classification societies would be able to conduct inspections and tests on behalf of the Coast Guard, issue certificates under international treaties and conventions, and certify cranes on these vessels. This will eliminate the complication of one classification society issuing vessel certificates and another certifying authority (ABS or ICGB) issuing crane certifications. This will increase efficiency and reduce costs for owners or operators of MODUs, OSVs, and floating OCS facilities. The owners or operators of MODUs, OSVs, and floating OCS facilities would present certificates and test documents from these recognized classification societies to the Coast Guard during initial installation or during the regular inspection for certification as proof that the cranes were certified and inspected in a satisfactory manner.

The proposed rule would also allow crane manufacturers who have a license from API to affix API monograms to their cranes to be recognized as crane-certifying authorities. As outlined in Annex C of API Spec. 2C, by affixing an API monogram to a crane nameplate, a crane manufacturer certifies that construction of the crane complies in all details to API Spec. 2C, “Specification for Offshore Pedestal Mounted Cranes.”

There is duplication of effort involving safety of cranes among the Coast Guard, ABS, ICGB, and crane manufacturers that results in extra costs to U.S. vessel owners. Under 46 U.S.C. 3316, the Coast Guard has the authority to delegate to classification societies the ability to conduct inspections and plan review on behalf of the United States. Title 46, U.S.C. 3103 allows the Coast Guard to rely on reports, documents, and records to establish compliance with statutory and regulatory requirements. To address the additional costs associated with the duplicative effort, the Coast Guard proposes to implement the monogram program that is already provided for in the standard proposed for incorporation.

Accordingly, cranes affixed with an API monogram on the nameplate would be accepted as being designed and constructed in accordance with API Spec. 2C. However, such cranes would not be considered satisfactory for use on inspected vessels without a continued program of tests and inspections witnessed or conducted annually by a crane-certifying authority. The Coast Guard would have the option to conduct, at any time, an audit of the crane certification and inspection process to ensure satisfactory performance of an organization or API monogram license holder.

This approach is consistent with the Coast Guard's efforts to implement alternative compliance methods that are provided for in 46 CFR 107.205. This proposed rule would not undermine the authority of the Officer in Charge, Marine Inspection, to visually inspect and examine cranes as part of their periodic inspections and take action as needed to ensure that installed cranes and their associated equipment are suitable for their intended service as outlined in 46 CFR 107.270.

IV. Discussion of Proposed Rule

A description of the changes we propose to make to 46 CFR part 107 are as follows:

46 CFR 107.111: We propose to modify § 107.111 by adding a definition for “crane” that clarifies the type of crane (pedestal), its use (offshore operations), and a minimum lifting capacity of 5 tons (10,000 lbs) that is to be certified and inspected under the subchapter.

46 CFR 107.115: We propose to update and combine the incorporation by reference language in paragraphs (a) and (b) into a new paragraph (a), and to add new paragraphs (b), (c), and (d) to update the reference standards for API and to note the currently referenced standards for ABS and ASTM. We propose to delete references to standards of the American National Standards Institute (ANSI), the International Cargo Gear Bureau (ICGB), the National Fire Protection Association (NFPA), and Underwriters Laboratories (UL).

46 CFR 107.231: We propose to modify § 107.231(m) by providing the correct cross-reference to the requirements for inspection and testing of cranes found in § 107.259 and deleting the current cross-reference pointing to the requirements for certification of cranes found in § 107.258.

46 CFR 107.258: We propose to add a new § 107.258(a) containing language requiring that cranes and crane foundations be certified as being designed and constructed to the latest edition of API Spec. 2C, “Specification for Offshore Pedestal Mounted Cranes,” or other equivalent standard identified by the Coast Guard. The term “other equivalent standard” may refer to the standards of a classification society recognized by the Coast Guard or other national or international organization specifically recognized by the Coast Guard. We recognize that cranes designed, constructed, and maintained in class to the classification standards of a recognized classification society may offer an equivalent level of safety to cranes designed, constructed, and maintained in accordance with API Spec. 2C. Accordingly, we propose to include language to allow for Coast Guard review of these and other equivalencies.

We propose to redesignate existing paragraph (a) as paragraph (b), and the list of crane-certifying authorities in existing paragraphs (a)(1) and (a)(2) as paragraphs (b)(1) and (b)(2), respectively. We propose to modify redesignated paragraph (b)(1) by deleting a reference to ABS and replacing it with “recognized classification societies as outlined in 46 CFR part 8,” a group that includes ABS. We also propose adding a new paragraph (b)(3) to allow recognition of crane manufacturers, as specified in Annex C of API Spec. 2C, who are licensed by API to affix the API monogram to their cranes, thereby certifying that their cranes are designed and constructed in compliance with API Spec. 2C.

We propose to redesignate existing paragraphs (b), (b)(1), and (b)(2) as paragraphs (c), (c)(1), and (c)(2), respectively, which list the revised conditions under which all crane-certifying authorities would be required to base their certification. We propose to modify the text in redesignated paragraph (c)(2) to distinguish between inspection and testing requirements needed for initial crane certification and the requirements for periodic inspections and tests. Periodic inspections and tests are meant to provide evidence that a crane is suitable for continued service after it has been initially tested and inspected in accordance with the most recent edition of APR RP 2D, “Recommended Practice for Operation and Maintenance of Offshore Cranes,” currently the Sixth Edition (May 2007) and certified as being designed in accordance with the most recent edition of API Spec. 2C, “Specification for Offshore Pedestal Mounted Cranes,” currently the Seventh Edition (March 2012).

Finally, we propose to add a new paragraph (e) to allow the Coast Guard to, at any time, conduct oversight audits on crane-certification authorities to ensure that cranes are designed, constructed, inspected, tested, and maintained in accordance with recognized standards as modified by the regulations.

46 CFR 107.259: We propose to modify § 107.259(a) by updating crane inspections and tests to refer to the latest edition of API RP 2D, “Recommended Practice for Operation and Maintenance of Offshore Cranes,” or other equivalent standard identified by the Coast Guard. For the same reasons discussed under the section explaining proposed changes to 46 CFR 107.258, we propose to include language to allow for Coast Guard review of these and other equivalencies.

In § 107.259(b), we propose to revise the sentence to clarify that our intention is to require certifying authorities only for the annual inspections and tests required by revised API RP 2D, Chapter 4, including the periodic load tests required by § 107.260. API RP 2D outlines a number of routine tests and inspections that must be performed periodically on cranes, and it is not our intention to require that all these tests and inspections be carried out by crane-certifying authorities. Routine tests and inspections should be carried out at intervals and conducted by persons as outlined in Chapter 4 of API RP 2D. We also propose to remove a direct listing of the persons or organizations who may witness tests and conduct inspections identified in existing paragraph (b)(1) and (2). Coast Guard marine inspectors listed in existing paragraph (b)(1) are no longer used for such purposes and have been removed from the list of persons who may be called to witness tests or conduct inspections of cranes. ABS and ICGB, listed in existing paragraph (b)(2) are proposed to be included as “qualified inspectors” as defined in API RP 2D, Sixth Edition (May 2007), of an approved crane-certifying authority listed under proposed § 107.258. We propose this change to clarify the level of personnel training and experience necessary to accurately conduct inspections and witness tests of cranes in accordance with API RP 2D. Inspectors of a crane-certifying authority receive a high level of training and formal qualification for inspecting and testing specific types of cranes. As such, the Coast Guard believes they provide the level of expertise that is necessary to ensure cranes are designed, installed, and maintained to high safety standards. Coast Guard marine inspectors may continue to conduct visual examinations of cranes and crane foundations during the course of routine vessel inspections for certification, annual, periodic, and other inspections and examinations, and can take action as outlined in 46 CFR 107.270 to correct problems or suspend crane operations if a crane is found in an unsafe condition.

We propose to modify § 107.259(c) to reflect that tests and inspections must be conducted and certified by a qualified inspector of an approved crane-certifying authority, rather than just ABS or the ICGB. We propose to modify § 107.259(c) to reflect that the qualified inspector must certify that the tests and inspections were conducted in accordance with the API specifications, or other equivalent standard.

46 CFR 107.260: We propose to modify this section by deleting the table in existing paragraph (a) and the information in existing paragraph (b) because these items have been incorporated into the updated reference of API RP 2D, and, therefore, do not need to be specified in regulatory text. Accordingly, we propose to revise paragraph (a) by adding reference to the section of API Spec. 2C that outlines load testing requirements for cranes.

46 CFR 107.309: We propose to modify this section by requiring that certain plans and information for cranes and crane foundations be reviewed and approved by approved certification authorities. We propose to update § 107.309(a)(1) to reference the latest edition of API Spec. 2C, and to specify the location in API Spec. 2C where critical components are listed. We propose to relocate existing § 107.309(a)(2) to a new § 107.309 (b)(3) as these items are reviewed by the Coast Guard Marine Safety Center. We propose to redesignate existing paragraphs (a)(3) and (a)(4) as paragraphs (a)(2) and (a)(3), respectively. In redesignated paragraph (a)(3), we propose to replace the existing text with information referencing section 4.1 of API Spec. 2C. This section contains information not previously specified that was added to API Spec. 2C over the course of its revision that the Coast Guard believes should be reviewed and approved by approved certification authorities to allow better overall assessment of crane designs. Such information includes load and information charts, crane foundation design forces and moments, certification of critical components, an operations, parts, and maintenance manual, and a failure mode assessment for gross unintended overloads. As discussed earlier, we propose to modify the text in § 107.309(b) to clarify that certain plans and information must be reviewed and approved by the Coast Guard Marine Safety Center, and to add § 107.309(b)(3).

A description of the changes we propose to make to 46 CFR part 108 are as follows:

46 CFR 108.101: We propose to modify § 108.101 by updating it to conform with general formatting requirements for incorporated by reference sections. Specifically, we propose to combine the incorporation by reference language in paragraphs (a) and (b) into a new paragraph (a), and to remove the table format associated with existing paragraph (b). We propose adding a new paragraph (b) to reflect the updated reference to ANSI standard Z-89.1-1969, which is now ANSI standard A-A-2269A NOT 1 identified in existing § 108.497(f) but not currently listed as being incorporated by reference. We also propose adding a new paragraph (c) to reflect the reference to API Spec. 2C identified in existing § 108.601 but not currently listed as being incorporated by reference. Information concerning the referenced standards of ASTM, IMO, and NFPA would be organized into new paragraphs (d), (e), and (f), respectively.

46 CFR 108.105: We propose to modify this section by making a minor editorial change and by stating that the specified standard is incorporated by reference in § 108.101.

46 CFR 108.427; 108.430; 108.497; 108.503; 108.645; 108.646; 108.647; 108.649; and 108.655: We propose to modify these sections by stating that the specified standard is incorporated by reference in § 108.101.

46 CFR 108.601: We propose to update the reference in § 108.601 to refer to the latest edition of API Spec. 2C, “Specification for Offshore Pedestal Mounted Cranes,” and include a provision that allows the Coast Guard to recognize other standards as an equivalency. Such standards may include cranes designed, installed, and maintained in class to the classification standards of a recognized classification society. We also propose to remove § 108.601(b) in its entirety because the items were incorporated into the revised API Spec. 2C standard and are no longer required to be listed separately in regulatory text.

A description of the changes we propose to make to 46 CFR part 109 are as follows:

46 CFR 109.105: We propose to modify § 109.105 by updating it to conform with general formatting requirements for incorporation by reference sections. Specifically, we propose to combine the incorporation by reference language in paragraphs (a) and (b) into a new paragraph (a) and remove the table format associated with existing paragraph (b). We propose adding a new paragraph (b) to reflect the reference to API Spec. 2C and API RP 2D identified in existing § 109.437(a) and (b), § 109.521, and § 109.527(c), but not currently listed as being incorporated by reference. Information concerning the referenced standards of ASTM and IMO would be organized into new paragraphs (c) and (d).

46 CFR 109.437: We propose to modify § 109.437(a)(1) by updating the reference for API nameplate data to reflect its location in the latest edition of API Spec. 2C, “Specification for Offshore Pedestal Mounted Cranes.” We propose to modify the text in § 109.437(a)(2) to use the term “load rating chart” instead of “rates load chart” as used in the latest edition of API Spec. 2C. We propose to modify § 109.437(b) by updating the reference for recording information on inspections, tests, and maintenance to reflect its location in the latest edition of API RP 2D, “Recommended Practice for Operation and Maintenance of Offshore Cranes.” We propose to replace existing § 109.437(d) and to modify § 109.437(c) to incorporate the requirements from existing paragraph (d). Finally, we propose to redesignate existing § 109.437(e) through (h) as § 109.437(d) through (g), respectively, based on our modifications.

46 CFR 109.439: We propose to make minor editorial changes to this section. In the opening sentence we propose to replace the words, “shall insure” with “must ensure”. In paragraph (b) we propose to delete “or” before the word “manufacturers” and replace it with “issued by” to provide clarification.

46 CFR 109.521: We propose to add a sentence to clarify that cranes and other lifting appliances that do not meet the definition in § 107.111 must be operated and maintained in accordance with the manufacturer's recommendations.

46 CFR 109.525: We propose a minor editorial change to this section by replacing the word “shall” with the word “must.”

46 CFR 109.527: We propose minor editorial changes. In paragraphs (a) and (b), we propose to change the word “shall” to “must.” In paragraph (c), we propose changing the word “shall” to “must” and also updating and clarifying information relative to the specified standard (API RP 2D).

46 CFR 109.529: We propose to add a new section covering lifting operations, which specifies that lifting operations must be conducted in accordance with the requirements in 33 CFR chapter I, subchapter N. Subchapter N is already applicable to vessels and floating facilities, and our intent with this new section is to point out that information in 33 CFR subchapter N concerning lifting operations is relevant and applicable to vessels with cranes that are inspected under this part of 46 CFR. Among other things, subchapter N specifies requirements for workplace safety and health, including requirements for personnel protective equipment.

46 CFR 109.563: We propose minor editorial changes to this section. In paragraph (a)(6) we propose to replace the word “which” with the word “that” and identify the location where IMO Assembly resolution A.654(16) is incorporated by reference.

V. Incorporation by Reference

Material proposed for incorporation by reference appears in §§ 107.258, 107.259, 107.260, 107.309, 108.601, 109.437, 109.521, 109.527, and 109.563. The references to the incorporation by reference standards in existing §§ 107.115, 108.101, and 109.105 would be updated to conform with general formatting requirements for incorporated by reference sections. In addition, “incorporated by reference, see § 108.101” has been added to §§ 108.105(c)(1), 108.427(a), 108.497(f), 108.503, 108.645(a)(4), 108.646(a), 108.647, 108.649(a)(2) and (b), and 108.655(e). Additional editorial and conforming language is included in this NPRM to update references to the proposed regulatory modifications addressing incorporation by reference. You may inspect this material at U.S. Coast Guard Headquarters where indicated under ADDRESSES. Copies of the material are available from the sources listed in §§ 107.115, 108.101, and 109.105.

Before publishing a binding rule, we will submit this material to the Director of the Federal Register for approval of the incorporation by reference.

VI. Regulatory Analyses

We developed this proposed rule after considering numerous statutes and executive orders related to rulemaking. Below we summarize our analyses based on 14 of these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This NPRM has not been designated a “significant regulatory action” under section 3(f) of Executive Order 12866. Accordingly, the NPRM has not been reviewed by the Office of Management and Budget.

A draft Regulatory Analysis is available in the docket where indicated under the “Public Participation and Request for Comments” section of this preamble. A summary of the Regulatory Analysis follows:

The proposed rule would amend the existing regulations for cranes on offshore supply vessels, MODUs, and floating OCS facilities to allow additional organizations to issue crane certificates and to incorporate the latest editions of industry standards.

The proposed rule is necessary because the current regulations do not reflect the safest available practices and technologies used by industry, and the regulated public needs additional options for obtaining crane certifications and conducting crane inspections. Parts of the industry have adopted the newer standards but there are gaps across the industry in adopting the standards in full or in part. The Coast Guard believes that the risk associated with public safety could increase without broader use of the latest editions of industry standards.

The Regulatory Analysis provides an evaluation of the economic impacts associated with this proposed rule. Table 1 provides a summary of the proposed rule's costs and benefits.

Table 1—Summary of the Impacts of the Proposed Rule
Category | Summary
Applicability | All U.S.-flagged OSV, MODUs, and floating OCS facilities with cranes of a lifting capacity of 5 tons (10,000 lbs) or more; crane manufacturers that service the offshore industry; and class societies.
Affected Population | 52 marine employers with crane-equipped offshore vessels; 9 marine employers with 18 floating OCS facilities; 24 marine employers with crane-equipped MODUs; 19 crane manufacturers; 2 cargo gear organizations, and 7 classification societies.
Costs ($ million, 7% discount rate) | $0.445 (annualized) $3.13 (10-year).
Quantified Benefits and Cost Savings ($ million, 7% discount rate) | $1.481 (annualized) $10.41(10-year).
Unquantified Benefits | * Update industry practices. * Aid to quality control. * maintain safety.
These costs include industry costs plus the Government's costs.

Affected Population

Based on Coast Guard data, we estimate this proposed rule would affect 52 businesses that own OSVs with cranes having 5 tons (10,000 lbs) or more lifting capacity, 24 businesses that own MODUs with cranes, 9 businesses that own 18 floating OCS facilities, 2 cargo gear organizations, 19 crane manufacturers, and approximately 7 classification societies.

Costs

The proposed rule would require several actions by affected parties. These actions include training, purchasing API standards, and inspecting or reviewing operations. We estimate the costs of the proposed rule to be the highest the first year of compliance, at approximately $0.886 million (undiscounted 2011 dollars), with additional annually recurring costs as shown in table 2 and described further in the Regulatory Analysis. For the 10-year period of this analysis, we estimate the annualized discounted cost of this proposed rule to be $0.445 million at a 7 percent discount rate, for a total of $3.12 million over 10 years, and $0.435 million at a 3 percent discount rate, for a total of $3.71 million over 10 years. The following table presents, by year, the costs of the proposed rule.

Table 2—Estimated Costs of the Proposed Rule
Year | Discounted 7% | Discounted 3% | Undiscounted
1 | $828,183 | $860,345 | $886,156
2 | 329,385 | 355,465 | 377,112
3 | 307,836 | 345,111 | 377,112
4 | 287,697 | 335,060 | 377,112
5 | 268,876 | 325,301 | 377,112
6 | 251,286 | 315,826 | 377,112
7 | 234,847 | 306,627 | 377,112
8 | 219,483 | 297,696 | 377,112
9 | 205,124 | 289,025 | 377,112
10 | 191,705 | 280,607 | 377,112
Total | 3,124,421 | 3,711,062 | 4,280,167
Annualized | 444,847 | 435,050 | 428,017

We estimate the requirement for the master or person in charge to ensure that each crane is operated and maintained in accordance with API RP 2D, “Recommended Practice for Operation and Maintenance of Offshore Cranes,” Sixth Edition (§ 109.521 Cranes: General) as the primary cost driver throughout the 10-year period of analysis. The requirement, in turn, would initiate training requirements for crane operators, inspectors, and riggers. See Table 3 for a summary of annualized costs by requirement category.

Table 3—Summary of the Annualized Costs of the Proposed Rule ($)
Category | Annualized*: 7% | Annualized*: 3%
109.521 Cranes: General (Operational Costs) | $19,645 | $16,803
109.521 Cranes: General (Training Costs) | 294,203 | 287,345
107.259 Crane Inspection and Testing | 128,514 | 128,514
Other (including Government Costs) | 2,485 | 2,387
Total | 444,847 | 435,050
* Rounded to the nearest one.

The proposed changes that would require the regulated public to have the master or person in charge ensure that each crane is operated and maintained in accordance with API RP 2D, “Recommended Practice for Operation and Maintenance of Offshore Cranes,” Sixth Edition (§ 109.521 Cranes: General) comprise approximately 70 percent of the costs throughout the 10-year period of analysis. Of this, 66 percent is due to the set of requirements dealing with training. The proposed changes to § 107.259, Crane inspection and testing, amount to 29 percent of the total costs. Table 4 presents a summary of the costs by requirement as a percentage of the total annualized costs of the proposed rule.

Table 4—Summary of Costs by Requirement of the Proposed Rule
[As a percentage of annualized cost]
Requirements | Annualized cost (Percent)
§ 109.521 Cranes: General (Operational Costs) | 4
§ 109.521 Cranes: General (Training costs) | 66
§ 107.259 Crane Inspection and Testing | 29
Other (including Government costs) | 1
Total (rounded to the nearest one) | 100

Benefits

The proposed rule would amend existing regulations regarding cranes in OCS activities, and is expected to have several positive direct and indirect effects for the regulated public.

The Coast Guard is pursuing this amendment to existing standards to reflect technological improvements and to expand protection of offshore workers. The proposed rule contains provisions that would enhance safety. Similarly, the proposed rule would initiate requirements that would offer business opportunities for the issuance of crane certificates and would offer the regulated public flexibility for the acquisition of crane certificates.

The proposed rule would promote maritime safety by offering provisions for more practicable and efficient management of risk associated with offshore cranes. The proposed rule contains additional provisions that would either offer greater flexibility for compliance or offer an opportunity for a potential cost savings. Table 5 presents data on the hazards that have been caused by accidents involving cranes.

Table 5—Baseline of Fatalities, Injuries, Oil Spills, and Property Damage
[2006-2010]
Impact | Count
Fatalities | 3.
Injuries | 11.
Oil Spills | 30.
Amount of Oil Spilled (gallons) | 205.43.
Property Damage (This figure is likely an underestimate. Some property damage was not assessed a damage figure in the MISLE file.) | $2,566,415.
Congestion and Delays | Not quantified.

See the preliminary Regulatory Analysis available in the docket for a detailed analysis of the costs and benefits of this rulemaking.

The Coast Guard considered the following alternatives when developing the proposed rule:

1. Take no action.

2. Allow industry to develop its own standard.

3. Issue a new policy letter or Navigation and Vessel Inspection Circular.

4. The API standards contain both mandatory and non-mandatory provisions; an alternative is to make the mandatory and non-mandatory provisions requirements under the proposed rule.

5. Retain the existing editions of the API standards but promulgate the other proposed changes.

6. Do not include the exemption for small cranes.

7. Develop a different timetable for small entities.

8. Provide an exemption for small entities (from the rule or any part thereof).

Alternatives 1 and 2 are not preferred because they do not offer solutions to updating the CFR. Alternative 1 would result in the continuation of a situation in which the outdated guidance of the older editions creates a safety hazard potential and an enforcement issue, as well as increases the difficulty of complying with standards that are no longer available. Alternative 2 is not ideal because the industry could develop its own standard that may not be acceptable to the Coast Guard. They also do not allow for cost savings opportunities that would arise by amending the regulations to permit an increased number of organizations eligible to issue crane certifications. Alternative 3 would communicate information to the regulated public and, although it would potentially increase public safety, it would not allow for cost savings opportunities outlined in the proposed rule or update the CFR. Likewise, it offers no assurance of compliance and no enforcement mechanism. Alternative 4 would offer all the benefits of the proposed rule and we anticipate it would create a situation of increased safety as predicted by the proposed rule. However, not all API recommendations (e.g., non-mandatory provisions of the API standards) are suitable for Coast Guard-regulated industries; to make all API recommendations regulatory requirements in the CFR may result in required activities that have no increased benefit compared to the proposed alternative. Alternative 5 is feasible; however, the API standards currently referenced in the CFR are outdated and, therefore, there is no benefit in retaining them. Alternative 6 is feasible but would create a situation in which members of the regulated public would be required to engage in activities that offered no benefit and possibly a disbenefit. Alternative 7 would offer a different timetable for small entities; although this is feasible, it has little added benefit to small entities. The proposed rule's increased costs for small entities are low, and some small entities may experience no additional cost because many proposed requirements are now being followed by the regulated public, and such an exemption would not offer cost savings opportunities. This alternative could lower the level of safety to small entities as compared to the rest of the population. Alternative 8, which would allow for an exemption for small entities, is feasible. The Coast Guard notes that many proposed provisions would not fully impact materially or result in a behavioral change to some small entities since some are already in compliance with parts of the proposed regulation. The proposed changes are low in cost on the individual level and have a low implementation burden.

B. Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of fewer than 50,000.

We determined that the proposed rule would not have a significant economic impact on a substantial number of small entities. We found that small entities affected by this proposed rule were small businesses consisting of the owners and operators of OSVs, MODUs, and floating OCS facilities, crane manufacturers, classification societies, and cargo gear organizations (see table 6).

Table 6—Estimated Affected Population of the Proposed Rule
Group | Estimated population
Cargo Gear Organization | 2
Classification Societies | 7
Businesses that own OSVs with Cranes | 52
Businesses that own MODUs with Cranes | 24
Businesses that own Floating OCS Facilities | 9
Crane Manufacturers | 19
Total | 113

The results of our small business impact analysis show that, among the groups of affected entities, the proposed rule would have little impact on revenues (e.g., less than 1 percent cost to revenue impact). For owners and operators of MODUs with cranes that meet the Small Business Administration (SBA) small business size standards, the proposed rule's cost would be between 0 and 1 percent of total revenues for 100 percent of small businesses. For owners and operators of vessels with cranes, the proposed rule's cost would be between 0 and 1 percent of total revenue for 100 percent of small businesses. Among the class societies, none met the SBA small business size standard and 100 percent had a cost-to-revenue impact of 0 to 1 percent. None of the businesses that own floating OCS facilities met the SBA small business size standard and none were anticipated to have cost-to-revenue impacts greater than 1 percent of revenue. For crane manufacturers, an estimated 63 percent were small entities, but these entities are in compliance with the proposed changes and would not have additional costs unless they applied for acceptance to issue crane certificates. For those, all would have a cost-to-revenue impact of 0 to 1 percent.

In summary, the Coast Guard certifies that the proposed rule would not have a significant economic impact on a substantial number of owners and operators of offshore vessels, MODUs, and floating OCS facilities and crane manufacturers. We also certify under 5 U.S.C. 605(b) that this proposed rule would not have a significant economic impact on a substantial number of classification societies or cargo gear organizations.

We are interested in the potential impacts from this proposed rule on small businesses and we request public comment on these potential impacts. If you think that your business, organization, or governmental jurisdiction qualifies as a small entity and that this proposed rule would have a significant economic impact on it, please submit a comment to the Docket Management Facility at the address under ADDRESSES. In your comment, explain why you think it qualifies and how and to what degree this proposed rule would economically affect it.

C. Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult Mr. Ken Smith, CG-OES-2, U.S. Coast Guard; telephone 202-372-1413 or email Ken.A.Smith@uscg.mil. The Coast Guard will not retaliate against small entities that question or complain about this proposed rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would amend an existing collection of information as defined by the Paperwork Reduction Act of 1995 (44 U.S.C. 3501-3520); the proposal adds requirements for recording and recordkeeping. For example, the proposal adds requirements for training materials, training documentation and performing inspections and maintaining records of the results. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering and maintaining the data needed, and completing and reviewing the collection.

Title: Plan Approval & Records for Tank, Passenger, Cargo & Miscellaneous Vessels, Mobile Offshore Drilling Units, Nautical School Vessels and Oceanographic Research Vessels.

OMB Control Number: 1625-0038.

Summary of the Collection Of Information: The existing collection of information requires written responses such as submitted plans. The proposed rule would require responses ranging from the review of documentation and the procurement of written materials to the preparation of written information. Some examples of the proposed rule's collections of information include training documentation, procurement of industry standards and applications for acceptance. The collection of information would aid the regulated public in assuring safe practices associated with cranes.

Need For Information: The Coast Guard needs this information to determine whether an entity meets the regulatory requirements.

Proposed Use of Information: The Coast Guard would use this information to determine whether an entity meets the regulatory requirements.

Description of the Respondents: The respondents are owners and operators of U.S.-flagged vessels, MODUs and floating OCS facilities with offshore pedestal cranes with a lifting capacity equal to or greater than 5 tons (10,000 lbs), classification societies, and crane manufacturers.

Number of Respondents: The burden of this proposed rule for this collection of information includes certifications, approval requests, procurement of written materials, preparation of records and records of inspections. This collection of information applies to owners/operators of crane-equipped offshore vessels, MODUs and floating OCS facilities; crane manufacturers; classification societies; and cargo gear organizations. We estimate the maximum number of respondents is 112.

Frequency of Responses: This proposed rule will vary the number of responses each year by requirement. Details are shown in the preliminary Regulatory Analysis.

Burden of Response: The burden of response for each regulatory requirement varies. Details are shown in the preliminary Regulatory Analysis.

Estimate of Total Annual Burden: This proposed rule will increase burden hours by 21,823.65 hours from the previously approved burden estimate.

As required by the Paperwork Reduction Act of 1995 (44 U.S.C. 3507(d)), we will submit a copy of this proposed rule to the Office of Management and Budget (OMB) for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. Before the Coast Guard could enforce the collection of information requirements in this proposed rule, OMB would need to approve the Coast Guard's request to collect this information.

E. Federalism

A rule has implications for federalism under Executive Order 13132, Federalism, if it has a substantial direct effect on the States, on the relationship between the national government and the States, or on the distribution of power and responsibilities among the various levels of government.

It is well settled that States may not regulate in categories reserved for regulation by the Coast Guard. It is also well settled, now, that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. (See the decision of the Supreme Court in the consolidated cases of United States v. Locke and Intertanko v. Locke, 529 U.S. 89, 120 S.Ct. 1135 (March 6, 2000).) This proposed rule concerns the design, construction, alteration, repair, maintenance, operation, and equipping of cranes on MODUs, OSVs and floating OCS facilities. Because the States may not regulate within this category, preemption under Executive Order 13132 is not an issue.

Additionally, Congress specifically granted the authority to regulate floating OCS facilities as it relates to the safety of life to the Secretary of the Department in which the Coast Guard is operating. Section 1333(d)(1) of 43 U.S.C. states that the Secretary “shall have the authority to promulgate and enforce such reasonable regulations with respect to lights and other warning devices, safety equipment, and other matters relating to the promotion of safety of life and property on the artificial islands, installations, and other devices . . . as he may deem necessary.” As this rule would regulate the operation, maintenance, design, and construction of cranes on MODUs, OSVs, and floating OCS facilities, it falls within the scope of authority Congress granted exclusively to the Secretary. Therefore, since the States may not regulate within this category, preemption under Executive Order 13132 is not an issue.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this proposed rule elsewhere in this preamble.

G. Taking of Private Property

This proposed rule would not cause a taking of private property or otherwise have taking implications under Executive Order 12630, Governmental Actions and Interference with Constitutionally Protected Property Rights.

H. Civil Justice Reform

This proposed rule meets applicable standards in sections 3(a) and 3(b)(2) of Executive Order 12988, Civil Justice Reform, to minimize litigation, eliminate ambiguity, and reduce burden.

I. Protection of Children

We have analyzed this proposed rule under Executive Order 13045, Protection of Children from Environmental Health Risks and Safety Risks. This proposed rule is not an economically significant rule and would not create an environmental risk to health or risk to safety that might disproportionately affect children.

J. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

K. Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (15 U.S.C. 272 note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule uses the following voluntary consensus standards: API Spec. 2C, “Specification for Offshore Pedestal Mounted Cranes,” and API RP 2D, “Recommended Practice for the Operation and Maintenance of Offshore Cranes.” The proposed sections that reference these standards and the locations where these standards are available are listed in proposed 46 CFR 107.115, 108.101, and 109.105.

M. Environment

We have analyzed this proposed rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. A preliminary environmental analysis checklist supporting this determination is available in the docket where indicated under the “Public Participation and Request for Comments” section of this preamble. This rule revises existing regulations to update industry standards and allows the use of additional organizations to act in lieu of Coast Guard marine inspectors. These changes fall under section 2.B.2, figure 2-1, paragraphs (34)(a), (b), (d), and (e) of the Instruction concerning the updating of regulations for editorial reasons, internal agency functions, vessel inspections, and equipment approval. We seek any comments or information that may lead to the discovery of a significant environmental impact from this proposed rule.

List of Subjects

46 CFR Part 107

Cranes, Incorporation by reference, Inspection and certification, Marine safety, Mobile offshore drilling units, Oil and gas exploration, Plan approval, Reporting and recordkeeping requirements, Vessels.

46 CFR Part 108

Cranes, Design and equipment, Fire prevention, Incorporation by reference, Marine safety, Mobile offshore drilling units, Occupational safety and health, Oil and gas exploration, Vessels.

46 CFR Part 109

Cranes, Incorporation by reference, Marine safety, Occupational safety and health, Mobile offshore drilling units, Oil and gas exploration, Operations, Reporting and recordkeeping requirements, Reports, notifications, and records, Vessels.

For the reasons discussed in the preamble, the Coast Guard proposes to amend 46 CFR parts 107, 108, and 109 as follows:

PART 107—INSPECTION AND CERTIFICATION

1. The authority citation for part 107 is revised to read as follows:

Authority: 43 U.S.C. 1333; 46 U.S.C. 3103, 3306, 3307; 46 U.S.C. 3316; Department of Homeland Security Delegation No. 0170.1; § 107.05 also issued under the authority of 44 U.S.C. 3507.

2. Amend § 107.111 to add the definition, in alphabetical order, for “Crane” to read as follows:

* * * * *

Crane means a crane used in offshore lifting operations that is pedestal mounted and has a lifting capacity of 5 tons (10,000 lbs) or more.

* * * * *

3. Revise § 107.115 to read as follows:

§ 107.115 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the U.S. Coast Guard, Office of Operating and Environmental Standards (CG-OES), 2100 2nd Street SW., Stop 7126, Washington, DC 20593-7126, and is available from the sources listed below. It is also available at the National Archives and Records Administration (NARA). For information on the availability of this material at NARA, call 202-741-6030, or go to http://www.archives.gov/federal_register/code_of_federal_regulations/ibr_locations.html.

(b) American Bureau of Shipping (ABS), ABS Plaza, 16855 Northchase Drive, Houston, TX 77060, 281-977-5800, http://www.eagle.org.

(1) ABS Rules for Building and Classing Mobile Offshore Drilling Units (2008), IBR approved for § 107.305(hh).

(2) [Reserved]

(c) American Petroleum Institute (API), 1220 L Street NW., Washington, DC 20005-4070, 202-682-8000, http://www.api.org.

(1) API Spec. 2C, “Specification for Offshore Pedestal Mounted Cranes”, Seventh Edition (March 2012), IBR approved for §§ 107.258(a), 107.260(b), and 107.309(a).

(2) API RP 2D, “Recommended Practice for Operation and Maintenance of Offshore Cranes”, Sixth Edition (May 2007), IBR approved for §§ 107.258(c), 107.259(a), (b), (c), and 107.260(a).

(d) ASTM International, 100 Barr Harbor Drive, West Conshohocken, PA 19428-2959, 610-832-9500, http://www.astm.org.

(1) 2011/2012 “Annual Book of ASTM Standards,” Section 1—Iron and Steel Products, IBR approved for § 107.305(hh).

(2) [Reserved]

4. Revise § 107.231 paragraph (m) to read as follows:

§ 107.231 Inspection for certification.

* * * * *

(m) Each crane is inspected and tested in accordance with § 107.259 of this part.

* * * * *

5. Revise § 107.258 to read as follows:

§ 107.258 Crane certification.

(a) Each crane and crane foundation installed after [insert effective date of the final rule] must be certified as being designed and constructed in accordance with the American Petroleum Institute's (API) “Specification for Offshore Pedestal Mounted Cranes,” API Spec. 2C, Seventh Edition (March 2012) (incorporated by reference, see § 107.115) or other equivalent standard identified by Commandant (CG-ENG). Cranes installed prior to [insert effective date of the final rule] must comply with the regulations in effect at the time of installation.

(b) The Coast Guard may accept current certificates issued by Coast Guard approved organizations as evidence of condition and suitability of cranes. The following organizations are approved by the Coast Guard as crane-certifying authorities:

(1) Recognized classification societies as outlined in 46 CFR part 8.

(2) International Cargo Gear Bureau, Inc., 321 West 44th Street, New York, NY 10036, on the Internet at http://www.icgb.com.

(3) Crane manufacturers holding a license from API to apply the API monogram to crane nameplates.

(c) Crane certification must be based on—

(1) A review of plans submitted under § 107.309; and

(2) Satisfactory completion of the initial tests and inspections outlined by the API's “Recommended Practice for Operation and Maintenance of Offshore Cranes,” API RP 2D, Sixth Edition (May 2007), Section 4.1.2.1 (incorporated by reference, see § 107.115).

(d) Each load test and inspection, witnessed or conducted by the certifying authority must be recorded in the unit's Crane Record Book required in § 109.437.

(e) The Coast Guard may, at any time, conduct an audit of the crane inspection, testing, or certification process to ensure satisfactory performance of crane-certifying authorities.

6. Revise § 107.259 to read as follows:

§ 107.259 Crane inspection and testing.

(a) Each crane must be inspected and tested in accordance with Section 4 of the American Petroleum Institute's (API) “Recommended Practice for Operation and Maintenance of Offshore Cranes,” API RP 2D, Sixth Edition (May 2007) (incorporated by reference, see § 107.115) or other equivalent standard identified by Commandant (CG-ENG), except that the rated load tests must be performed in accordance with § 107.260.

(b) Annual tests and inspections must be witnessed or conducted by qualified inspectors, as defined in API's “Recommended Practice for Operation and Maintenance of Offshore Cranes”, API RP 2D, Sixth Edition (May 2007) (incorporated by reference, see § 107.115), of an approved crane-certifying authority listed under § 107.258.

(c) The qualified inspector must certify that the tests and inspections were conducted in accordance with API RP 2D, “Recommended Practice for Operation and Maintenance of Offshore Cranes,” Sixth Edition (May 2007) (incorporated by reference, see § 107.115), or other equivalent standard identified by Commandant (CG-ENG), as modified by § 107.260.

7. Amend § 107.260 as follows:

a. Revise paragraph (a);

b. Remove paragraph (b);

c. Redesignate paragraphs (c), (c)(1), (c)(2), and (c)(3) as paragraphs (b), (b)(1), (b)(2), and (b)(3), respectively; and

d. Revise redesignated paragraph (b)(3) to read as follows:

§ 107.260 Rated load test for cranes.

(a) To meet the requirements in § 107.231(l), each crane must be load tested in accordance with the recommended procedures outlined in the American Petroleum Institute's (API) “Recommended Practice for Operation and Maintenance of Offshore Cranes,” API RP 2D, Sixth Edition (May 2007) (incorporated by reference, see § 107.115) Appendix E, at both the maximum and minimum boom angles usually employed in material transfers over the side of the unit.

(b) * * *

(3) After repairs or alterations to any critical component of the crane as defined in Section 5.2 of API Spec. 2C, “Specification for Offshore Pedestal Mounted Cranes,” Seventh Edition (March 2012) (incorporated by reference, see § 107.115).

8. Amend § 107.309 as follows:

a. Revise paragraphs (a) introductory text and (a)(1);

b. Remove paragraph (a)(2) and redesignate paragraphs (a)(3) and (a)(4) as paragraphs (a)(2) and (a)(3), respectively;

c. Remove the note to redesignated paragraph (a)(3);

d. Revise paragraph (b) introductory text; and

e. Add paragraph (b)(3) to read as follows:

§ 107.309 Crane plans and information.

(a) The following plans and information must be reviewed and approved by an approved crane-certifying authority listed under § 107.258(b) of this part:

(1) Stress and arrangement diagrams, bill of materials, and supporting calculations for all structural critical components listed in Annex A of API Spec. 2C, “Specification for Offshore Pedestal Mounted Cranes,” Seventh Edition (March 2012) (incorporated by reference, see § 107.115) or as otherwise identified by the manufacturer.

(2) * * *

(3) Manufacturer supplied documentation listed in Section 4.1 of API Spec. 2C, “Specification for Offshore Pedestal Mounted Cranes,” Seventh Edition (March 2012) (incorporated by reference, see § 107.115), or equivalent documentation identified by Commandant (CG-ENG).

(b) The following plans and information must be reviewed and approved by the Coast Guard Marine Safety Center:

(1) * * *

(3) Drawings and material specifications of foundations and substructures with supporting calculations for support and stability of each crane under its rated load.

PART 108—DESIGN AND EQUIPMENT

9. The authority citation for part 108 continues to read as follows:

Authority: 43 U.S.C. 1333; 46 U.S.C. 3102, 3306; Department of Homeland Security Delegation No. 0170.1.

10. Revise § 108.101 to read as follows:

§ 108.101 Incorporation by Reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the U.S. Coast Guard, Office of Design and Engineering Standards (CG-ENG), 2100 2nd Street SW., Stop 7126, Washington, DC 20593-7126, and is available from the sources listed below. It is also available at the National Archives and Records Administration (NARA). For information on the availability of this material at NARA, call 202-741-6030, or go to http://www.archives.gov/federal_register/code_of_federal_regulations/ibr_locations.html.

(b) American National Standards Institute (ANSI), 25 West 43rd Street, 4th Floor, New York, NY 10036, 212-642-4980, http://www.ansi.org.

(1) ANSI standard, Z-89.1-1969, Helmet Safety, IBR approved for § 108.497(f).

(2) [Reserved]

(c) American Petroleum Institute (API), 1220 L Street NW., Washington, DC 20005-4070, 202-682-8000, http://www.api.org.

(1) API Spec. 2C, “Specification for Offshore Pedestal Mounted Cranes”, Seventh Edition (March 2012), IBR approved for § 108.601.

(2) [Reserved]

(d) ASTM International, 100 Barr Harbor Drive, West Conshohocken, PA 19428-2959, 610-832-9500, http://www.astm.org.

(1) ASTM D 93-97, Standard Test Methods for Flash Point by Pensky-Martens Closed Cup Tester, IBR approved for § 108.500(b).

(2) ASTM F 1014-92, Standard Specification for Flashlights on Vessels, IBR approved for § 108.497(b).

(3) ASTM F 1121-87 (1993), Standard Specification for International Shore Connections for Marine Fire Applications, IBR approved for § 108.427(a).

(e) International Maritime Organization (IMO), Publications Section, 4 Albert Embankment, London, SE1 7SR United Kingdom, +44 (0)20 7735 7611, http://www.imo.org.

(1) Resolution A.520(13), Code of Practice for the Evaluation, Testing and Acceptance of Prototype Novel Life-saving Appliances and Arrangements, 17 November 1983, IBR approved for § 108.105(c).

(2) Resolution A.649(16), Code for the Construction and Equipment of Mobile Offshore Drilling Units (MODU Code), 19 October 1989 with amendments of June 1991, IBR approved for § 108.503.

(3) Resolution A.658(16), Use and Fitting of Retro-reflective Materials on Life-saving Appliances, 20 November 1989, IBR approved for §§ 108.645(a) and 108.649(a) and (e).

(4) Resolution A.760(18), Symbols Related to Life-saving Appliances and Arrangements, 17 November 1993, IBR approved for §§ 108.646(a), 108.647, 108.649(b), (d), (f), and (g), and 108.655(e).

(f) National Fire Protection Association (NFPA), 1 Batterymarch Park, Quincy, MA 02269-9101, 800-344-3555, http://www.nfpa.org.

(1) NFPA 13-1996, Standard for the Installation of Sprinkler Systems, IBR approved for § 108.430.

(2) [Reserved]

11. Amend § 108.105 as follows:

a. In paragraph (b), after the words “upon such condition as will”, remove the word “insure” and add, in its place, the word “ensure”;

b. In paragraph (c), replace the numbers “521” with the letters “ENG”; and

c. Revise paragraph (c)(1) to read as follows:

§ 108.105 Substitutes for required fittings, material, apparatus, equipment, arrangements, calculations, and tests.

* * * * *

(c) * * *

(1) Is evaluated and tested in accordance with IMO Resolution A.520(13), Code of Practice for the Evaluation, Testing and Acceptance of Prototype Novel Life-saving Appliances and Arrangements (incorporated by reference, see § 108.101); or

* * * * *

12. Revise § 108.427 paragraph (a) to read as follows:

§ 108.427 International shore connection.

* * * * *

(a) At least one international shore connection that meets ASTM F 1121 (incorporated by reference, see § 108.101).

* * * * *

13. Revise § 108.430 to read as follows:

§ 108.430 General.

Automatic Sprinkler Systems must comply with NFPA 13-1996 (incorporated by reference, see § 108.101).

14. Revise § 108.497 paragraph (f) to read as follows:

§ 108.497 Fireman's outfits.

* * * * *

(f) A helmet that meets the requirements in ANSI standard Z-89.1-1969 (incorporated by reference, see § 108.101); and

* * * * *

15. Revise § 108.503 introductory text to read as follows:

§ 108.503 Relationship to international standards.

For the purposes of this part, any unit carrying a valid IMO MODU Safety Certificate, including a listing of lifesaving equipment as required by the 1989 IMO MODU Code (incorporated by reference, see § 108.101), is considered to have met the requirements of this subpart if, in addition to the requirements of the 1989 MODU Code, it meets the following requirements:

* * * * *

16. Revise § 108.601 to read as follows:

§ 108.601 Crane design.

Each crane and crane foundation on a unit installed after [insert effective date of the final rule] must be designed in accordance with the American Petroleum Institute's API Spec. 2C, “Specification for Offshore Pedestal Mounted Cranes,” Seventh Edition (March 2012) (incorporated by reference, see § 108.101) or other equivalent standard identified by Commandant (CG-ENG). Cranes installed prior to [insert effective date of the final rule] must comply with the regulations in effect at the time of installation.

17. Revise § 108.645 paragraph (a)(4) to read as follows:

§ 108.645 Markings on lifesaving appliances.

(a) * * *

(4) Type II retro-reflective material approved under approval series 164.018 must be placed on the boat and meet the arrangement requirements in IMO Resolution A.658(16) (incorporated by reference, see § 108.101).

* * * * *

18. Revise § 108.646 paragraph (a) to read as follows:

§ 108.646 Markings of stowage locations.

(a) Containers, brackets, racks, and other similar stowage locations for lifesaving equipment, must be marked in accordance with IMO Resolution A.760(18) (incorporated by reference, see § 108.101), indicating the devices stowed in that location for that purpose.

* * * * *

19. Revise § 108.647 to read as follows:

§ 108.647 Inflatable liferafts.

The number of the liferaft and the number of persons it is permitted to accommodate must be marked or painted in a conspicuous place in the immediate vicinity of each inflatable liferaft in block capital letters and numbers. The word “LIFERAFT” or the appropriate symbol from IMO Resolution A.760(18) (incorporated by reference, see § 108.101) must be used to identify the stowage location. Liferafts stowed on the sides of the unit must be numbered in the same manner as the lifeboats. This marking must not be on the inflatable liferaft container.

20. Revise § 108.649 paragraphs (a)(2), (b), (d), (e)(2), (f), and (g) to read as follows:

§ 108.649 Lifejackets, immersion suits, and lifebuoys.

(a) * * *

(2) With type I retro-reflective material approved under approval series 164.018. The arrangement of the retro-reflective material must meet IMO Resolution A.658(16) (incorporated by reference, see § 108.101).

(b) The stowage positions for lifejackets, other than lifejackets stowed in staterooms, must be marked with either the word “LIFEJACKET” or with the appropriate symbol from IMO Resolution A.760(18) (incorporated by reference, see § 108.101).

* * * * *

(d) Immersion suits or anti-exposure suits must be stowed so they are readily accessible, and the stowage positions must be marked with either the words “IMMERSION SUITS” or “ANTI-EXPOSURE SUITS”, or with the appropriate symbol from IMO Resolution A.760(18) (incorporated by reference, see § 108.101).

(e) Each lifebuoy must be marked—

(1) * * *

(2) With type II retro-reflective material approved under part 164, subpart 164.018 of this chapter. The arrangement of the retro-reflective material must meet IMO Resolution A.658(16) (incorporated by reference, see § 108.101).

(f) Each lifebuoy stowage position must be marked with either the words “LIFEBUOY” or “LIFE BUOY”, or with the appropriate symbol from IMO Resolution A.760(18) (incorporated by reference, see § 108.101).

(g) Each lifejacket, immersion suit, and anti-exposure suit container must be marked in block capital letters and numbers with the minimum quantity, identity, and if sizes other than adult or universal sizes are used on the unit, the size of the equipment stowed inside the container. The equipment may be identified in words or with the appropriate symbol from IMO Resolution A.760(18) (incorporated by reference, see § 108.101).

21. Revise § 108.655 paragraph (e) to read as follows:

§ 108.655 Operating instructions.

* * * * *

(e) Display symbols in accordance with IMO Resolution A.760(18) (incorporated by reference, see § 108.101).

PART 109—OPERATIONS

22. The authority citation for part 109 continues to read as follows:

Authority: 43 U.S.C. 1333; 46 U.S.C. 3306, 6101, 10104; Department of Homeland Security Delegation No. 0170.1.

23. Revise § 109.105 to read as follows:

§ 109.105 Incorporation by Reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the U.S. Coast Guard, Office of Operating and Environmental Standards (CG-OES), 2100 2nd Street SW., Stop 7126, Washington, DC 20593-7126, and is available from the sources listed below. It is also available at the National Archives and Records Administration (NARA). For information on the availability of this material at NARA, call 202-741-6030, or go to http://www.archives.gov/federal_register/code_of_federal_regulations/ibr_locations.html.

(b) American Petroleum Institute (API), 1220 L Street NW., Washington, DC 20005-4070, 202-682-8000, http://www.api.org.

(1) API Spec. 2C, “Specification for Offshore Pedestal Mounted Cranes”, Seventh Edition (March 2012), IBR approved for § 109.437(a).

(2) API RP 2D, “Recommended Practice for Operation and Maintenance of Offshore Cranes”, Sixth Edition (May 2007), IBR approved for §§ 109.437(b), 109.521, and 109.527(c).

(c) ASTM International, 100 Barr Harbor Drive, West Conshohocken, PA 19428-2959, 610-832-9500, http://www.astm.org.

(1) ASTM Adjunct F 1626, Symbols for Use in Accordance with Regulation II-2/20 of the 1974 SOLAS Convention as amended PCN: 12-616260-01 (1996), IBR approved for § 109.563(a).

(2) [Reserved]

(d) International Maritime Organization (IMO), Publications Section, 4 Albert Embankment, London, SE1 7SR United Kingdom, +44 (0) 20 7735 7611, http://www.imo.org.

(1) Resolution A.654 (16), Graphical Symbols for Fire Control Plans, IBR approved for § 109.563(a).

(2) [Reserved]

24. Amend § 109.437 as follows:

a. Remove paragraph (d);

b. Redesignate paragraphs (e), (f), (g), and (h) as paragraphs (d), (e), (f), and (g), respectively; and

c. Revise paragraphs (a)(1), (a)(2), (b), and (c) to read as follows:

§ 109.437 Crane record book.

* * * * *

(a) * * *

(1) The API name plate data required by Section 13 of the American Petroleum Institute's (API), “Specification for Offshore Pedestal Mounted Cranes,” API Spec. 2C, Seventh Edition (March 2012) (incorporated by reference, see § 109.105), or similar data provided by the manufacturer of a crane that has a lifting capacity less than 5 tons (10,000 lbs) that is not designed to API specifications; and

(2) The load rating chart for each line reeving and boom length that may be used.

(b) Information required by Section 4 of the API's “Recommended Practice for Operation and Maintenance of Offshore Cranes,” API RP 2D, Sixth Edition (May 2007) (incorporated by reference, see § 109.105) or similar information provided by the manufacturer of a crane that has a lifting capacity less than 5 tons (10,000 lbs) that is not designed to API specifications.

(c) Dates and results of inspections and tests required by paragraph (b) of this section.

* * * * *

25. In § 109.439, revise the introductory text and paragraph (b) to read as follows:

§ 109.439 Crane certificates.

The master or person in charge must ensure that the following certificates and records for each crane are maintained on the unit:

* * * * *

(b) Each record and original certificate, or certified copy of a certificate issued by manufacturers, testing laboratories, companies, or organizations for—

* * * * *

26. Revise § 109.521 to read as follows:

§ 109.521 Cranes: General.

The master or person in charge must ensure that each crane is operated and maintained in accordance with the American Petroleum Institute's “Recommended Practice for Operation and Maintenance of Offshore Cranes,” API RP 2D, Sixth Edition (May 2007) (incorporated by reference, see § 109.105). Cranes and other lifting appliances that do not meet the definition of a crane specified in § 107.111 must be operated and maintained in accordance with the manufacturer's recommendations.

§ 109.525 [Amended]

27. In § 109.525, after the word “charge”, remove the word “shall” and add, in its place, the word “must”.

28. Revise § 109.527, to read as follows:

§ 109.527 Cranes: Operator designation.

(a) The master or person in charge must designate, in writing, each crane operator.

(b) The master or person in charge must ensure that only designated operators operate cranes.

(c) The master or person in charge must ensure that each designated operator is familiar with the provisions of the American Petroleum Institute's “Recommended Practice for Operation and Maintenance of Offshore Cranes,” API RP 2D, Sixth Edition (May 2007) (incorporated by reference, see § 109.105).

29. Add § 109.529 to subpart F to read as follows:

§ 109.529 Cranes: Lifting operations.

All crane lifting operations must be conducted in accordance with the applicable sections of 33 CFR subchapter N, Outer Continental Shelf Activities.

30. Revise § 109.563 paragraph (a)(6) to read as follows:

§ 109.563 Posting of documents.

* * * * *

(a) * * *

(6) For units constructed on or after September 30, 1997, and for existing units which have their plans redrawn, the symbols used to identify the aforementioned details must be in accordance with IMO Assembly resolution A.654(16) (incorporated by reference, see § 109.105). The identical symbols can be found in ASTM Adjunct F 1626 (incorporated by reference, see § 109.105).

* * * * *

Dated: April 10, 2013.
J.G. Lantz,
Director of Commercial Regulations and Standards, U.S. Coast Guard.

[FR Doc. 2013-11132 Filed 5-10-13; 8:45 am]

BILLING CODE 9110-04-P